DEPARTMENT OF ENERGY

Federal Energy Regulatory Commission

[Docket No. CP16-480-000]

Notice of Schedule for Environmental Review of the Annova LNG Common Infrastructure, LLC, Annova LNG Brownsville A, LLC, Annova LNG Brownsville B, LLC, and Annova LNG Brownsville C, LLC Annova LNG Brownsville Project

On July 13, 2016, Annova LNG Common Infrastructure, LLC; Annova LNG Brownsville A, LLC; Annova LNG Brownsville B, LLC; and Annova LNG Brownsville C, LLC (collectively, Annova) filed an application in Docket No. CP16-480-000, section 3(a) of the Natural Gas Act (NGA) and Part 153 of the Commission's Regulations, requesting authorization to site, construct, and operate a natural gas liquefaction and liquefied natural gas (LNG) export facility, located on the Brownsville Ship Channel (BSC) in Cameron County, Texas. The proposed project is known as the Annova LNG Brownsville Project (Project) and would receive natural gas from a third-party pipeline, create and store LNG, and load up to 6.95 million tonnes per annum of LNG onto carriers for export to overseas markets. On February 20, 2014, in Order No. 3394, the U.S. Department of Energy, Office of Fossil Energy, granted to Annova a long-term, multi-contract authorization to export LNG to Free Trade Agreement nations.

On July 27, 2016, the Federal Energy Regulatory Commission (FERC or Commission) issued its Notice of Application for the Project. Among other things, that notice alerted other agencies issuing federal authorizations of the requirement to complete all necessary reviews and to reach a final decision on the request for a federal authorization within 90 days of the date of issuance of the Commission staff's final Environmental Impact Statement (EIS) for the Annova LNG Brownsville Project. This instant notice identifies the FERC staff's planned schedule for completion of the final EIS for the Project, which is based on an issuance of the draft EIS in December 2018. The forecasted schedule for both the draft and final EIS is based upon Annova providing complete and timely responses to any future data requests. In addition, the schedule assumes that the cooperating agencies will provide input on their areas of responsibility on a timely basis.

Schedule for Environmental Review

Issuance of Notice of Availability of the final EIS—April 19, 2019

90-Day Federal Authorization Decision Deadline—July 18, 2019

If a schedule change becomes necessary for the final EIS, an additional notice will be provided so that the relevant agencies are kept informed of the Project's progress.

Project Description

The proposed Project would be located on about 364 acres of an approximately 731-acre site on the southern bank of the BSC at mile marker 8.2. The site is owned by the Port of Brownsville and Annova has entered into a Lease Option Agreement for possible use of the site. The BSC has direct access to the Gulf of Mexico via the Brazos Santiago Pass.

The Project would include six liquefaction trains with a total capacity of 6 million tons per year of LNG. The natural gas delivered to the site would be treated, liquefied, and stored on site in two single containment LNG storage tanks. The Project would include two principal parts, the LNG facilities and associated marine facilities. The LNG facilities would be designed to receive 0.9 billion cubic feet per day of natural gas via a planned intrastate pipeline; treat the gas to remove constituents that affect the cryogenic process; liquefy the gas; and store the LNG in storage tanks prior to loading for shipment to overseas markets. The marine facilities would allow access to the site and LNG loading onto LNG carriers.

Background

On March 27, 2015, the Commission staff granted Annova's request to use the FERC's Pre-filing environmental review process and assigned the Annova LNG Brownsville Project Docket No. PF15-15-000. On July 23, 2015, the Commission issued a Notice of Intent to Prepare an Environmental Impact Statement for the Planned Annova LNG Brownsville Project, Request for Comments on Environmental Issues, and Notice of Public Scoping Meeting (NOI).

The NOI was issued during the pre-filing review of the Project in Docket No. PF15-15-000 and was sent to federal, state, and local government agencies; elected officials; affected landowners; environmental and public interest groups; Native American tribes and regional organizations; commentors and other interested parties; and local libraries and newspapers. Major issues raised during scoping include: The purpose and need for the Project; impacts on recreational areas and users; impacts on the socioeconomic conditions of the area; impacts on wildlife, wetlands, and vegetation; and impacts on sensitive areas such as the Bahia Grande wetland restoration area and the Padre Island Seashore.

The U.S. Army Corps of Engineers; U.S. Coast Guard; U.S. Department of Transportation; U.S. Environmental Protection Agency; U.S. Fish and Wildlife Service; National Park Service; the National Oceanic and Atmospheric Administration, National Marine Fisheries Service; Federal Aviation Administration; and U.S. Department of Energy are cooperating agencies in the preparation of the EIS.

Additional Information

In order to receive notification of the issuance of the EIS and to keep track of all formal issuances and submittals in specific dockets, the Commission offers a free service called eSubscription. This can reduce the amount of time you spend researching proceedings by automatically providing you with notification of these filings, document summaries, and direct links to the documents. Go to www.ferc.gov/docs-filing/esubscription.asp.

Additional information about the Project is available from the Commission's Office of External Affairs at (866) 208-FERC or on the FERC website (www.ferc.gov). Using the eLibrary link, select General Search from the eLibrary menu, enter the selected date range and Docket Number excluding the last three digits (i.e., CP16-480), and follow the instructions. For assistance with access to eLibrary, the helpline can be reached at (866) 208-3676, TTY (202) 502-8659, or at FERCOnlineSupport@ferc.gov. The eLibrary link on the FERC website also provides access to the texts of formal documents issued by the Commission, such as orders, notices, and rule makings.

Dated: August 31, 2018.
Nathaniel J. Davis, Sr.,
Deputy Secretary.

[FR Doc. 2018-19399 Filed 9-6-18; 8:45 am]

BILLING CODE 6717-01-P